DEPARTMENT OF AGRICULTURE

Forest Service

Ochoco National Forest, Paulina Ranger District; Oregon; Wolf Creek Vegetation and Fuels Management Project EIS

AGENCY: Forest Service.

ACTION: Notice of Intent to Prepare an Environmental Impact Statement.

SUMMARY: The Ochoco National Forest is preparing an environmental impact statement (EIS) to analyze the effects of managing vegetation and fuels within the 24,506 acre Wolf project area, which is approximately 50 miles east of Prineville, Oregon. The project area includes National Forest system lands within the Lower Beavercreek watershed. The alternatives that will be analyzed include the proposed action, no action, and additional alternatives that will respond to issues generated through the scoping process. The Ochoco National Forest will give notice of the full environmental analysis and decision making process so interested and affected people may participate and contribute to the final decision.

DATES: Scoping comments must be received by May 20, 2013. The draft environmental impact statement is expected to be completed and available for public comment in October, 2013. The final environmental impact statement is expected to be completed in March, 2014.

ADDRESSES: Send written comments to Sandra Henning, District Ranger, Paulina Ranger District, Ochoco National Forest, 3160 NE Third Street, Prineville, Oregon 97754. Alternately, electronic comments may be sent to comments-pacificnorthwest-ochoco@fs.fed.us. Electronic comments must be submitted as part of the actual email message, or as an attachment in plain text (.txt), Microsoft Word (.doc), rich text format (.rtf), or portable document format (.pdf).

FOR FURTHER INFORMATION CONTACT: Jeffrey Marszal, Project Leader at 3160 NE Third Street, Prineville, Oregon 97754, or at (541) 416-6500, or by email at jmarszal@fs.fed.us

SUPPLEMENTARY INFORMATION:

Purpose and Need for Action

The existing condition of the Wolf planning area was evaluated in 2012 and documented in the Wolf Creek Watershed Analysis. The watershed analysis determined that conditions in the planning area have departed from the historic conditions in several ways.

• Tree species compositions are outside the historic range of variability.

• A reduction in Late and Old Structured forest (LOS); especially single-strata LOS.

• A reduction in open-canopy stands accompanied by an increase in stand densities and multi-storied stands.

• An increased risk of large-scale loss of forest to wildfire.

• An increased risk of insect infestation and/or disease that can impact forested stands.

• A decline in riparian/aquatic conditions and hardwood communities.

Based upon direction from the Ochoco Forest Plan and recommendations identified in the Wolf Creek WA, the Paulina Ranger District has determined that within the Wolf project area:

1. There is a need to manage vegetation towards to the historic range of variability to provide a range of forest conditions and habitats that would support historic disturbance processes, native wildlife, and plant species.

2. There is a need to reduce forest vegetation density and fuel loadings to reduce the risk that disturbance events such as insect, disease and wildfire will lead to a loss of desired forest conditions.

3. There is a need to increase or maintain large tree structure; especially single-strata LOS and maintain and increase the abundance of early-seral and fire tolerant species.

4. There is a need to improve riparian conditions and associated upland vegetation within Riparian Habitat Conservation Area (RHCAs) and maintain and enhance hardwood communities.

5. There is a need to contribute to the local and regional economies by providing timber and other wood fiber products now and in the future.

Proposed Action

The proposed action includes a variety of management strategies and activities, including commercial thinning with follow-up noncommercial thinning and/or slashes treatment (4,927 acres), noncommercial treatment with slash treatment (907 acres), juniper cutting with slash treatment (481 acres), underburning (4,910 acres) and hardwood enhancement (78 acres). Implementation of the proposed action would require some connected actions; these include use of temporary roads on existing disturbance (18 miles), use of new temporary roads (2 miles), stream restoration (1 location), material source expansion (1 location, 3 acres), and headcut repair (3 locations). Implementation of the proposed action would require the following mitigation to reduce or eliminate unwanted effects; these include road closure (2 miles) and road decommission (2.7 miles).

Responsible Official

The responsible official will be Kate Klein, Forest Supervisor, Ochoco National Forest, 3160 NE Third Street, Prineville, Oregon 97754.

Nature of Decision To Be Made

Given the purpose and need, the deciding official will review the proposed action, the other alternatives, and the environmental consequences in order to determine whether and under what circumstances vegetation and fuels management will be implemented in the Wolf Creek project area.

Preliminary Issues

The project's interdisciplinary team has developed a list of preliminary issues that will be used during the analysis of effects. Other issues may arise as a result of public comment and further analysis. Preliminary issues include:

• Invasive Plant Species (Noxious Weeds). Several populations of noxious weeds are known to exist within the project area. There is a risk that management activities may exacerbate the weed situation by spreading existing populations or introducing new ones.

• Peck's Mariposa Lily. Management activities can improve habitat for this sensitive species, but there is also risk of impacting individual plants and/or habitat where it occurs in the project area.

• Soil Productivity. Maintenance of soil productivity is an important objective for management of National Forest Lands. When mechanized equipment is used in the Forest, soil can become displaced and compacted, which can impact productivity.

• Water Quality. The main streams in the project area, Wolf, North Wolf and East Wolf Creeks, are listed on Oregon DEQ's 303(d) list due to high summer temperatures. Management activities can result in reduced shade on streams, as well as contribute sediment into the streams, which impacts water quality and decreases habitat quality for fish and other riparian fauna.

• Wildlife Habitat. Activities intended to improve forest health and resiliency may reduce habitat effectiveness for some wildlife species, including forest raptors and big game.

Scoping Process

The notice of intent initiates the scoping process, which guides the development of the environmental impact statement. It is important that reviewers provide their comments at such times and in such a manner that they are useful to the agency's preparation of the environmental impact statement. Therefore, comments should be provided prior to the close of the comments period and should clearly articulate the reviewer's concerns and contentions. Comments received in response to this solicitation including names and addresses of those who comment, will be part of the public record for this proposed action. Comments submitted anonymously will be accepted and considered.

Dated: April 1, 2013.
Sandra Henning,
District Ranger.

[FR Doc. 2013-07938 Filed 4-4-13; 8:45 am]

BILLING CODE 3410-11-P